INTERNATIONAL TRADE COMMISSION

[Investigation Nos. 701-TA-449 and 731-TA-1118-1121 (Preliminary)]

Light-Walled Rectangular Pipe and Tube From China, Korea, Mexico, and Turkey

Determination

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is materially injured ² or threatened with material injury ³,⁴ by reason of imports from China, Korea, Mexico, and Turkey of light-walled rectangular pipe and tube, provided for in subheading 7306.61.50 of the Harmonized Tariff Schedule of the United States,⁵ that are alleged to be subsidized by the Government of China and that are alleged to be to be sold in the United States at less than fair value (LTFV) from China, Korea, Mexico, and Turkey.⁶

¹ The record is defined in sec. 207.2(f) of the Commission's Rules of Practice and Procedure (19 CFR § 207.2(f)).

² Commissioner Charlotte R. Lane determines that there is a reasonable indication that an industry in the United States is materially injured by reason of imports of light-walled rectangular pipe and tube from China, Korea, Mexico, and Turkey.

³ Vice Chairman Shara L. Aranoff, Commissioner Deanna Tanner Okun, and Commissioner Irving A. Williamson determine that there is a reasonable indication that an industry in the United States is threatened with material injury by reason of imports of light-walled rectangular pipe and tube from China, Korea, Mexico, and Turkey.

⁴ Chairman Daniel R. Peason determines that there is a reasonable indication that an industry in the United States is threatened with material injury by reason of imports of light-walled rectangular pipe and tube from China, Korea, and Turkey, but that there is not a reasonable indication that an industry in the United States is materially injured or threatened with material injury by reason of imports of light-walled rectangular pipe and tube from Mexico.

⁵ Prior to February 3, 2007, the merchandise subject to these investigations was properly classified under subheading 7306.60.50 of the Harmonized Tariff Schedule of the United States.

⁶ Commissioner Dean A. Pinkert recused himself to avoid any conflict of interest or appearance of a conflict.

Commencement of Final Phase Investigations

Pursuant to § 207.18 of the Commission's rules, the Commission also gives notice of the commencement of the final phase of its investigations. The Commission will issue a final phase notice of scheduling, which will be published in the Federal Register as provided in § 207.21 of the Commission's rules, upon notice from the Department of Commerce (Commerce) of affirmative preliminary determinations in the investigations under sections 703(b) and 733(b) of the Act, or, if the preliminary determinations are negative, upon notice of affirmative final determinations in those investigations under section 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On June 27, 2007, a petition was filed with the Commission and Commerce by twelve U.S. producers,⁷ alleging that an industry in the United States is materially injured by reason of subsidized imports of light-walled rectangular pipe and tube from China and LTFV imports from China, Korea, Mexico, and Turkey. Accordingly, effective June 27, 2007, the Commission instituted countervailing duty investigation No. 701-TA-449 (Preliminary) and antidumping investigation Nos. 731-TA-1118-1121 (Preliminary).

⁷ Allied Tube and Conduit, Harvey, IL; Atlas Tube, Plymouth, MI; California Steel and Tube, City of Industry, CA; EXLTUBE, Kansas City, MO; Hannibal Industries, Los Angeles, CA; Leavitt Tube Company LLC, Chicago, IL; Maruichi American Corporation, Sante Fe Springs, CA; Searing Industries, Rancho Cucamonga, CA; Southland Tube, Birmingham, AL; Vest Inc., Los Angeles, CA; Welded Tube, Concord, Ontario (Canada); and Western Tube and Conduit, Long Beach, CA.

Notice of the institution of the Commission's investigations and of a public conference to be held in connection therewith was given by posting copies of the notice in the Office of the Secretary, U.S. International Trade Commission, Washington, DC, and by publishing the notice in the Federal Register of July 3, 2007 (72 FR 36479). The conference was held in Washington, DC, on July 18, 2007, and all persons who requested the opportunity were permitted to appear in person or by counsel.

The Commission transmitted its determinations in these investigations to the Secretary of Commerce on August 13, 2007. The views of the Commission are contained in USITC Publication 3941 (August 2007), entitled Light-Walled Rectangular Pipe and Tube From China, Korea, Mexico, and Turkey: Investigation Nos. 701-TA-449 and 731-TA-1118-1121 (Preliminary).

By order of the Commission.
Issued: August 22, 2007.
Marilyn R. Abbott,
Secretary to the Commission.

[FR Doc. E7-16964 Filed 8-27-07; 8:45 am]

BILLING CODE 7020-02-P